DEPARTMENT OF ENERGY

Federal Energy Regulatory Commission

[Project No. 14655-002]

Cat Creek Energy, LLC; Notice of Intent To File License Application, Filing of Pre-Application Document (Pad), Commencement of ILP Pre-Filing Process, Request for Comments on the Pad and Scoping Document, Identification of Issues and Associated Study Requests, and Virtual Public Scoping Meetings and Virtual Environmental Site Reviews

a. Type of Filing: Notice of Intent to File License Application for an Original License, Commencing Pre-filing Process, and Denial of Request to Use the Traditional Licensing Process.

b. Project No.: 14655-002.

c. Dated Filed: January 3, 2022.

d. Submitted By: Cat Creek Energy, LLC (CCE).

e. Name of Project: Cat Creek Energy and Water Storage Project (Cat Creek Project).

f. Location: On the south side of U.S. Bureau of Reclamation's (Reclamation) Anderson Ranch Reservoir on the South Fork Boise River approximately 25 miles northeast of Mountain Home in Elmore County, Idaho. The project would be located primarily on private land but would also include some federal lands owned and/or administered by Reclamation, the U.S. Forest Service, the Bureau of Land Management, and Bonneville Power Administration.

g. Filed Pursuant to: 18 CFR part 5 of the Commission's regulations.

h. Applicant Contact: Mr. James Carkulis, Cat Creek Energy, LLC, 398 S 9th Street, Suite 240, Boise, Idaho 83702; phone: (406) 459-3013.

i. FERC Contact: Michael Tust, (202) 502-6522, michael.tust@ferc.gov.

j. CCE filed its Pre-Application Document (PAD) and request to use the Traditional Licensing Process (TLP) on January 3, 2022. CCE published public notice of its Notice of Intent to file a license application, PAD, and request to use the TLP on January 12, 2022; however, the notice did not indicate a deadline for stakeholders to submit comments to the Commission. At the direction of Commission staff, CCE again published its notice on January 26, 2022, which included a deadline of February 25, 2022, for submitting comments to the Commission. After reviewing comments submitted by stakeholders, Commission staff denied CCE's request to use the TLP on April 1, 2022. CCE must use the Integrated Licensing Process to prepare a license application for the Cat Creek Project.

k. Cooperating agencies: Federal, state, local, and tribal agencies with jurisdiction and/or special expertise with respect to environmental issues that wish to cooperate in the preparation of the environmental document should follow the instructions for filing such requests described in item o below. Cooperating agencies should note the Commission's policy that agencies that cooperate in the preparation of the environmental document cannot also intervene. See 94 FERC ¶ 61,076 (2001).

l. With this notice, we are initiating informal consultation with: (a) The U.S. Fish and Wildlife Service and/or NOAA Fisheries under section 7 of the Endangered Species Act and the joint agency regulations thereunder at 50 CFR part 402; and (b) the Idaho State Historic Preservation Officer, as required by section 106, National Historic Preservation Act, and the implementing regulations of the Advisory Council on Historic Preservation at 36 CFR 800.2.

m. With this notice, we are designating CCE as the Commission's non-federal representative for carrying out informal consultation, pursuant to section 7 of the Endangered Species Act, and section 106 of the National Historic Preservation Act.

n. A copy of the PAD is available for review on the Commission's website (http://www.ferc.gov), using the “eLibrary” link. Enter the docket number, excluding the last three digits in the docket number field to access the document. At this time, the Commission has suspended access to the Commission's Public Reference Room, due to the proclamation declaring a National Emergency concerning the Novel Coronavirus Disease (COVID-19) pandemic, issued by the President on March 13, 2020. For assistance, contact FERC Online Support at FERCONlineSupport@ferc.gov, (866) 208-3676 (toll free), or (202) 502-8659 (TTY). A copy is also available via the contact in paragraph h.

You may register online at https://ferconline.ferc.gov/FERCOnline.aspx to be notified via email of new filings and issuances related to this or other pending projects. For assistance, contact FERC Online Support.

o. With this notice, we are soliciting comments on the PAD and Commission staff's Scoping Document 1 (SD1), as well as study requests. All comments on the PAD and SD1, and study requests should be sent to the address above in paragraph h. In addition, all comments on the PAD and SD1, study requests, requests for cooperating agency status, and all communications to and from Commission staff related to the merits of the potential application must be filed with the Commission.

The Commission strongly encourages electronic filing. Please file documents using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Cat Creek Energy and Water Storage Project (P-14655-002).

All filings with the Commission must bear the appropriate heading: “Comments on Pre-Application Document,” “Study Requests,” “Comments on Scoping Document 1,” “Request for Cooperating Agency Status,” or “Communications to and from Commission Staff.” Any individual or entity interested in submitting study requests, commenting on the PAD or SD1, and any agency requesting cooperating status must do so by July 30, 2022.

p. Scoping Process.

The Commission's scoping process will help determine the required level of analysis and satisfy the NEPA scoping requirements, irrespective of whether the Commission prepares an environmental assessment or Environmental Impact Statement. Due to ongoing concerns with large gatherings related to COVID-19, we do not intend to hold in-person public scoping meetings or an in-person environmental site review. Rather, we will hold virtual public scoping meetings and virtual environmental site reviews.

Virtual Scoping Meetings

Commission staff will hold two virtual public scoping meetings via teleconference. An evening meeting will focus on receiving input from the public and a daytime meeting will focus on concerns of resource agencies, Native American tribes, and non-governmental organizations (NGO). We invite all interested agencies, Native American tribes, NGOs, and the public to attend one or both of these meetings to assist us in identifying the scope of environmental issues that should be analyzed in the NEPA document. The dates and times of the virtual scoping meetings are listed below.

Evening Meeting for the General Public

Wednesday, June 15, 2022, 7:00 p.m.-9:00 p.m. Mountain Daylight Time (MDT), Call in number: 800-779-8625, Participant passcode: 3472916

Following entry of the access code, please provide the required details when prompted.

Daytime Meeting for Resource Agencies, Tribes, and NGOs

Thursday, June 16, 2022, 10:00 a.m.-12:00 p.m. MDT, Call in number: 800-779-8625, Participant passcode: 3472916

Following entry of the access code, please provide the required details when prompted.

Scoping Document 1 (SD1), which outlines the subject areas to be addressed in the environmental document, was mailed to the individuals and entities on the Commission's mailing list and CCE's PAD distribution list. Copies of SD1 may be viewed on the web at http://www.ferc.gov, using the “eLibrary” link. Follow the directions for accessing information in paragraph n. Based on all oral and written comments, a Scoping Document 2 (SD2) may be issued. SD2 may include a revised process plan and schedule, as well as a list of issues, identified through the scoping process.

Virtual Environmental Site Reviews

CCE and Commission staff will hold two virtual environmental site reviews of the Cat Creek Project prior to each of the virtual scoping meetings. The virtual site reviews will be held on Wednesday June 15, 2022, starting at 6:00 p.m. MDT, and on Thursday June 16, 2022, starting at 9:00 a.m. MDT Please contact CCE at 406-781-9911, or info@ccewsrps.net by Friday June 10, 2022, if you plan to attend one or both of the environmental site reviews. Directions for accessing the virtual site reviews will be provided by CCE staff once attendance is confirmed.

Meeting Objectives

At the scoping meetings, Commission staff will: (1) initiate scoping of the issues; (2) review and discuss existing conditions; (3) review and discuss existing information and identify preliminary information and study needs; (4) review and discuss the process plan and schedule for pre-filing activity that incorporates the time frames provided for in Part 5 of the Commission's regulations and, to the extent possible, maximizes coordination of federal, state, and tribal permitting and certification processes; and (5) discuss the potential of any federal or state agency or Native American tribe to act as a cooperating agency for development of an environmental document. Meeting participants should come prepared to discuss their issues and/or concerns. Please review CCE's PAD in preparation for the scoping meetings. Directions on how to obtain a copy of the PAD and SD1 are included in item n of this document.

Meeting Procedures

Commission staff will be moderating the scoping meetings. The meetings will begin promptly at their respective start times listed above. At the start of the meeting, staff will provide further instructions regarding the meeting setup, agenda, and how participants can provide their comments and questions during the meeting. The scoping meetings will be recorded by a court reporter, and all statements will become part of the Commission's public record for the project. Oral comments will initially be limited to 5 minutes in duration. Interested parties who choose not to speak or who are unable to attend the scoping meetings may provide written comments and information to the Commission using the instructions provided in item o.

Please note, that if no participants join the meetings within 30 minutes after the start time, staff will end the meeting and conference call. The meetings will end after participants have presented their oral comments or at the specified end time (listed above), whichever occurs first.

Dated: May 31, 2022.
Kimberly D. Bose,
Secretary.

[FR Doc. 2022-12053 Filed 6-3-22; 8:45 am]

BILLING CODE 6717-01-P